DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION: Electronic Availability

The Specially Designated Nationals and Blocked Persons List and additional information concerning OFAC sanctions programs are available on OFAC's website (www.treasury.gov/ofac).

Notice of OFAC Actions

On November 5, 2019, OFAC determined that the property and interests in property subject to U.S. jurisdiction of the following persons are blocked under the relevant sanctions authority listed below.

Individuals

1. BLANCO HURTADO, Nestor Neptali, Miranda, Venezuela; DOB 26 Sep 1982; nationality Venezuela; Gender Male; Cedula No. 15222057 (Venezuela) (individual) [VENEZUELA-EO13884].

Identified as meeting the definition of the term, “Government of Venezuela,” pursuant to section 6(d) of Executive Order 13884, “Blocking Property of the Government of Venezuela,” 84 FR 38843 (“E.O. 13884” or the “Order”), for acting of purported to act for or on behalf of, directly or indirectly, the Government of Venezuela.

2. CEBALLOS ICHASO, Remigio, Caracas, Capital District, Venezuela; DOB 01 May 1963; Gender Male; Cedula No. 6557495 (Venezuela) (individual) [VENEZUELA-EO13884].

Identified as meeting the definition of the term, “Government of Venezuela,” pursuant to section 6(d) of the Order, for acting of purported to act for or on behalf of, directly or indirectly, the Government of Venezuela.

3. CARRENO ESCOBAR, Pedro Miguel, Delta Amacuro, Venezuela; DOB 24 Apr 1961; Gender Male; Cedula No. 8142392 (Venezuela) (individual) [VENEZUELA-EO13884].

Identified as meeting the definition of the term, “Government of Venezuela,” pursuant to section 6(d) of the Order, for acting of purported to act for or on behalf of, directly or indirectly, the Government of Venezuela.

4. ORNELAS FERREIRA, Jose Adelino (a.k.a. ORNELLA FERREIRA, Jose Adelino; a.k.a. ORNELLAS FERREIRA, Jose Adelino), Caracas, Capital Disrict, Venezuela; DOB 14 Dec 1964; Gender Male; Cedula No. 7087964 (Venezuela) (individual) [VENEZUELA-EO13884].

Identified as meeting the definition of the term, “Government of Venezuela,” pursuant to section 6(d) of the Order, for acting of purported to act for or on behalf of, directly or indirectly, the Government of Venezuela.

5. CALDERON CHIRINOS, Carlos Alberto, Maracaibo, Zulia, Venezuela; DOB 03 Jul 1970; Gender Male; Cedula No. 10352300 (Venezuela) (individual) [VENEZUELA-EO13884].

Identified as meeting the definition of the term, “Government of Venezuela,” pursuant to section 6(d) of the Order, for acting of purported to act for or on behalf of, directly or indirectly, the Government of Venezuela.

Dated: November 5, 2019.
Andrea Gacki,
Director, Office of Foreign Assets Control, U.S. Department of the Treasury.

Editorial Note: This document was received for publication by the Office of the Federal Register on June 30, 2020.

[FR Doc. 2020-14464 Filed 7-2-20; 8:45 am]

BILLING CODE 4810-AL-P